DEPARTMENT OF ENERGY

Federal Energy Regulatory Commission

Combined Notice of Filings

Take notice that the Commission has received the following Natural Gas Pipeline Rate and Refund Report filings:

Filings Instituting Proceedings

Docket Numbers: RP16-604-000.

Applicants: Wyckoff Gas Storage Company, LLC.

Description: Compliance filing NAESB v. 3.0 Compliance to be effective 4/1/2016.

Filed Date: 2/11/16.

Accession Number: 20160211-5112.

Comments Due: 5 p.m. ET 2/23/16.

Docket Numbers: RP16-605-000.

Applicants: Enable Gas Transmission, LLC.

Description: Section 4(d) Rate Filing: Negotiated Rate Filing—February 11, 2016—CEM 1006966 to be effective 2/11/2016.

Filed Date: 2/11/16.

Accession Number: 20160211-5138.

Comments Due: 5 p.m. ET 2/23/16.

Docket Numbers: RP16-606-000.

Applicants: Iroquois Gas Transmission System, L.P.

Description: Section 4(d) Rate Filing: 02/11/16 Negotiated Rates—ConEdison Energy, Inc. (HUB) 2275-89 to be effective 2/11/2016.

Filed Date: 2/11/16.

Accession Number: 20160211-5148.

Comments Due: 5 p.m. ET 2/23/16.

Docket Numbers: RP16-607-000.

Applicants: Iroquois Gas Transmission System, L.P.

Description: Section 4(d) Rate Filing: 02/11/16 Negotiated Rates—Mercuria Energy Gas Trading LLC (HUB) 7540-89 to be effective 2/12/2016.

Filed Date: 2/11/16.

Accession Number: 20160211-5189.

Comments Due: 5 p.m. ET 2/23/16.

Docket Numbers: RP16-608-000.

Applicants: ANR Pipeline Company.

Description: Section 4(d) Rate Filing: J. Aron NC Service Agmt to be effective 4/1/2016.

Filed Date: 2/12/16.

Accession Number: 20160212-5003.

Comments Due: 5 p.m. ET 2/24/16.

Docket Numbers: RP16-609-000.

Applicants: Gulf South Pipeline Company, LP.

Description: Section 4(d) Rate Filing: Cap Rel Neg Rate Agmt (EOG 34687 to Tenaska 45706) to be effective 4/1/2016.

Filed Date: 2/12/16.

Accession Number: 20160212-5018.

Comments Due: 5 p.m. ET 2/24/16.

Docket Numbers: RP16-610-000.

Applicants: Northern Natural Gas Company.

Description: Northern Natural Gas submits report of the penalty and daily delivery variance charge (DDVC) revenues that have been credited to shippers under RP16-610.

Filed Date: 2/12/16.

Accession Number: 20160212-5136.

Comments Due: 5 p.m. ET 2/24/16.

Docket Numbers: RP16-611-000.

Applicants: Iroquois Gas Transmission System, L.P.

Description: Section 4(d) Rate Filing: 02/16/16 Negotiated Rates—Mercuria Energy Gas Trading LLC to be effective 2/13/2016.

Filed Date: 2/16/16.

Accession Number: 20160216-5224.

Comments Due: 5 p.m. ET 2/29/16.

Docket Numbers: RP16-612-000.

Applicants: Iroquois Gas Transmission System, L.P.

Description: Section 4(d) Rate Filing: 02/16/16 Negotiated Rates—ConEdison Energy, Inc. (HUB) 2275-89 to be effective 2/14/2016.

Filed Date: 2/16/16.

Accession Number: 20160216-5229.

Comments Due: 5 p.m. ET 2/29/16.

Docket Numbers: RP16-613-000.

Applicants: Alliance Pipeline L.P.

Description: Section 4(d) Rate Filing: Daily Open Season Feb 12-19 2016 to be effective 2/12/2016.

Filed Date: 2/16/16.

Accession Number: 20160216-5362.

Comments Due: 5 p.m. ET 2/29/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-524-001.

Applicants: SG Resources Mississippi, L.L.C.

Description: Compliance filing SG Resources Mississippi, L.L.C.—Order No. 587-W Revised Compliance Filing to be effective 4/1/2016.

Filed Date: 2/11/16.

Accession Number: 20160211-5171.

Comments Due: 5 p.m. ET 2/23/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 17, 2016.
Nathaniel J. Davis, Sr.,
Deputy Secretary.

[FR Doc. 2016-03832 Filed 2-23-16; 8:45 am]

BILLING CODE 6717-01-P